DEPARTMENT OF HOMELAND SECURITY

Coast Guard

33 CFR Part 117

[Docket No. USCG-2015-1063]

Drawbridge Operation Regulation; Connecticut River, Old Lyme, CT

AGENCY: Coast Guard, DHS.

ACTION: Notice of deviation from drawbridge regulation.

SUMMARY: The Coast Guard has issued a temporary deviation from the operating schedule that governs the Amtrak Old Saybrook-Old Lyme Bridge across the Connecticut River, mile 3.4, at Old Lyme, Connecticut. This deviation is necessary to perform gear box replacement. This deviation allows the bridge to remain in the closed position for approximately 5 days.

DATES: This deviation is effective from 7:00 a.m. on January 25, 2016 to 7:00 a.m. on February 6, 2016.

ADDRESSES: The docket for this deviation, [USCG-2015-1063] is available at http://www.regulations.gov. Type the docket number in the “SEARCH” box and click “SEARCH”. Click on Open Docket Folder on the line associated with this deviation.

FOR FURTHER INFORMATION CONTACT: If you have questions on this temporary deviation, call or email Ms. Judy K. Leung-Yee, Project Officer, First Coast Guard District, telephone (212) 514-4330, email judy.k.leung-yee@uscg.mil.

SUPPLEMENTARY INFORMATION: National Passenger Railroad Corporation (Amtrak) requested this temporary deviation from the normal operating schedule to perform gear box replacement.

The Amtrak Old Saybrook-Old Lyme Bridge, mile 3.4, across the Connecticut River has a vertical clearance in the closed position of 19 feet at mean high water and 22 feet at mean low water. The existing bridge operating regulations are found at 33 CFR 117.205(b).

The waterway is transited by one commercial user and recreation vessel traffic.

Under this temporary deviation, the Amtrak Old Saybrook-Old Lyme Bridge may remain in the closed position from 7:00 a.m. on January 25, 2016 to 7:00 a.m. on January 30, 2016 with rain date from 7:00 a.m. on February 1, 2016 to 7:00 a.m. on February 6, 2016.

Vessels able to pass through the bridge in the closed positions may do so at anytime. The bridge will not be able to open for emergencies and there is no immediate alternate route for vessels to pass.

The Coast Guard will also inform the users of the waterways through our Local and Broadcast Notices to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: December 15, 2015.
C.J. Bisignano,
Supervisory Bridge Management Specialist, First Coast Guard District.

[FR Doc. 2015-31939 Filed 12-18-15; 8:45 am]

BILLING CODE 9110-04-P